DEPARTMENT OF HEALTH AND HUMAN SERVICES

Administration for Children and Families

Agency Information Collection: Comprehensive Child Welfare Information System

Notice

The Office of Management and Budget (OMB) has assigned approval number 0970-0463 to the Comprehensive Child Welfare Information System (CCWIS) Final Rule (81 FR 35450, published June 2, 2016) information collection. The CCWIS Final Rule describes an optional child welfare information system. States and tribes electing to build a CCWIS must collect and report certain information to the Administration for Children and Families regarding their CCWIS plans. The information collection described in the Final Rule includes:

• The automated function list (45 CFR 1355.52(i)(1)(ii)-(iii) and (i)(2))

• The data quality plan (45 CFR 1355.52(d)(5))

• The Notice of Intent (45 CFR 1355.52(i)(1))

The authority for the information collection expires on 10/31/2019 12:00:00 a.m.

Authority: 42 U.S.C. 620 et seq., 42 U.S.C. 670 et seq.; 42 U.S.C. 1301 and 1302.

Robert Sargis,
Reports Clearance Officer.

[FR Doc. 2016-27280 Filed 11-10-16; 8:45 am]

BILLING CODE 4184-01-P